DEPARTMENT OF THE INTERIOR

Bureau of Land Management

[ID-957-1020-BJ]

Idaho: Filing of Plats of Survey

AGENCY: Bureau of Land Management, Interior.

ACTION: Notice.

SUMMARY: The plat of the following described land was officially filed in the Idaho State Office, Bureau of Land Management, Boise, Idaho, effective 9 a.m., on the date specified:

The plat representing the dependent resurvey of portions of the east boundary and subdivisional lines, and the subdivision of section 25, the survey of a portion of the 2000 meanders of the left bank of the North Fork of the Payette River in section 25, and the survey of certain islands (designated as lots 13 and 15) in the North Fork of the Payette River in section 25, T. 14 N., R. 3 E., Boise Meridian, Idaho, was accepted July 6, 2001. The plat was prepared to meet certain administrative needs of the Bureau of Land Management.

FOR FURTHER INFORMATION CONTACT: Duane Olsen, Chief, Cadastral Survey, Idaho State Office, Bureau of Land Management, 1387 South Vinnell Way, Boise, Idaho, 83709-1657, 208-373-3980.

Dated: July 6, 2001.
Duane E. Olsen,
Chief, Cadastral Surveyor of Idaho.

[FR Doc. 01-19030 Filed 7-30-01; 8:45 am]

BILLING CODE 4310-GG-P